FEDERAL RESERVE SYSTEM

Agency Information Collection Activities: Announcement of Board Approval Under Delegated Authority and Submission to OMB

AGENCY: Board of Governors of the Federal Reserve System.

SUMMARY: Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the Paperwork Reduction Act Submission, supporting statements and approved collection of information instrument(s) are placed into OMB's public docket files. The Federal Reserve may not conduct or sponsor, and the respondent is not required to respond to, an information collection that has been extended, revised, or implemented on or after October 1, 1995, unless it displays a currently valid OMB control number.

FOR FURTHER INFORMATION CONTACT:

Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

OMB Desk Officer—Shagufta Ahmed—Office of Information and Regulatory Affairs, Office of Management and Budget, New Executive Office Building, Room 10235, 725 17th Street NW., Washington, DC 20503.

Final approval under OMB delegated authority of the extension, with revision, of the following reports:

Report title: Consolidated Financial Statements for Holding Companies; Parent Company Only Financial Statements for Large Holding Companies and Parent Company Only Financial Statements for Small Holding Companies.

Agency form number: FR Y-9C;FR Y-9LP, and FR Y-9SP.

OMB Control number: 7100-0128.

Frequency: Quarterly and Semiannually.

Reporters: Bank Holding Companies and Savings and Loan Holding Companies (collectively, “holding companies”).

Estimated annual reporting hours:

FR Y-9C (non-Advanced Approaches holding companies)—125,812 hours;

FR Y-9C (Advanced Approaches holding companies)—2,404 hours;

FR Y-9LP—17,178 hours; and

FR Y-9SP—47,412 hours.

Estimated average hours per response:

FR Y-9C (non-Advanced Approaches holding companies)—48.84 hours;

FR Y-9C (Advanced Approaches holding companies)—50.09 hours;

FR Y-9LP—5.25 hours; and

FR Y-9SP—5.40 hours.

Number of respondents:

FR Y-9C (non -Advanced Approaches holding companies)—644;

FR Y-9C (Advanced Approaches holding companies)—12;

FR Y-9LP-818; and

FR Y-9SP-4,390.

General description of report: This information collection is mandatory for BHCs (12 U.S.C. 12 U.S.C. 1844(c)(1)(AA)). Additionally, 12 U.S.C. 1467a(b)(2)(A) and 1850a(c)(1)(A), respectively, authorize the Federal Reserve to require that Savings and Loan Holding Companies (SLHCs) and supervised Securities Holding Companies (SHCs) file the FR Y-9C, FR Y-9LP, and FR Y-9SP with the Federal Reserve. Confidential treatment is not routinely given to the financial data in this report. However, confidential treatment for the reporting information, in whole or in part, can be requested in accordance with the instructions to the form, pursuant to sections (b)(4), (b)(6), or (b)(8) of FOIA (5 U.S.C. 522(b)(4), (b)(6), and (b)(8)).

Abstract: The FR Y-9C, FR Y-9LP, and FR Y-9SP are standardized financial statements for the consolidated holding company (FR Y-9C) and its parent (FR Y-9LP) and for parent holding companies (HCs) that do not file the FR Y-9C (FR Y-9SP). The FR Y-9 family of reports historically has been, and continues to be, the primary source of financial data on HCs between on-site inspections. Financial data from these reports is used to detect emerging financial problems, to review performance and conduct pre-inspection analysis, to monitor and evaluate capital adequacy, to evaluate HC mergers and acquisitions, and to analyze a HC's overall financial condition to ensure safe and sound operations.

Current Actions:

On February 3, 2015, the Board published a notice in the Federal Register ¹ requesting public comment on an interim final rule (effective January 30, 2015) that would also remove the requirement that qualifying savings and loan holding companies complete Schedule SC-R, Part I (Regulatory Capital Components and Ratios) of form FR Y-9SP (Parent Company Only Financial Statements for Small Holding Companies). This schedule would have collected information on consolidated regulatory capital components and ratios from qualifying savings and loan holding companies that are subject to Regulation Q, effective June 30, 2015. Comments for the Paperwork Reduction Act (PRA) section of the interim final rule ended April 6, 2015. The Board did not receive any comments on the PRA section and the revisions were adopted as final.

¹ 80 FR 5666 (February 3, 2015) (Interim Final Rule).

In addition on February 3, 2015, the Board invited public comment on a proposed rule (Proposed Rule) ² that would also change the filing requirements for bank holding companies and savings and loan holding companies with $500 million or more but less than $1 billion in total consolidated assets. These institutions would not be required to file the FR Y-9C and the FR Y-9LP (including regulatory capital information) and would begin filing the FR Y-9SP if they also meet the Qualitative Requirements. The comment period on the PRA section of the proposed rule ended April 6, 2015. The Board received several comments in support of the proposed changes. After considering the comments, the Board adopted the revisions as final. The final rule was published in the Federal Register notice on April 15, 2015 ³ and became effective May 15, 2015.

² 80 FR 5694 (February 3, 2015) (Proposed Rule).

³ 80 FR 20153 (April 15, 2015) (Final Rule).

Final approval under OMB delegated authority of the extension, without revision, of the following reports:

Report title: The Financial Statement for Employee Stock Ownership Plan Holding Companies and the Supplemental to the Consolidated Financial Statements for Holding Companies.

Agency form number: FR Y-9ES and FR Y-9CS

OMB Control number: 7100-0128.

Frequency: Annually and on occasion.

Reporters: Bank Holding Companies and Savings and Loan Holding Companies (collectively, “holding companies”).

Estimated annual reporting hours:

FR Y-9ES—43 hours; and

FR Y-9CS—472 hours.

Estimated average hours per response:

FR Y-9ES—0.5 hours; and

FR Y-9CS—0.5 hours.

Number of respondents:

FR Y-9ES—86; and

FR Y-9CS—236.

General description of report: This information collection is mandatory for BHCs (12 U.S.C. 12 U.S.C. 1844(c)(1)(A)). Additionally, 12 U.S.C. 1467a (b)(2)(A) and 1850a(c)(1)(A), respectively, authorize the Federal Reserve to require that SLHCs and supervised SHCs file the FR Y-9ES and FR Y-9CS reports with the Federal Reserve. Confidential treatment is not routinely given to the financial data in this report. However, confidential treatment for the reporting information, in whole or in part, can be requested in accordance with the instructions to the form, pursuant to sections (b)(4), (b)(6), or (b)(8) of FOIA (5 U.S.C. 522(b)(4), (b)(6), and (b)(8)).

Abstract: The FR Y-9ES collects annual financial data from ESOPs, which are also HCs, on their benefit plan activities. It consists of four schedules: a Statement of Changes in Net Assets Available for Benefits, a Statement of Net Assets Available for Benefits, Memoranda, and Notes to the Financial Statements.

The FR Y-9CS is a supplemental report that the Federal Reserve may utilize to collect additional data deemed to be critical and needed in an expedited manner from HCs. The data are used to assess and monitor emerging issues related to HCs and are intended to supplement the other FR Y-9 reports, which are used to monitor HCs between on-site inspections and off-site assessments through the Small Bank Holding Company Supervision Program. The data items included on the FR Y-9CS may change as needed.

Board of Governors of the Federal Reserve System, June 29, 2015.
Robert deV. Frierson,
Secretary of the Board.

[FR Doc. 2015-16313 Filed 7-1-15; 8:45 am]

BILLING CODE 6210-01-P